POSTAL SERVICE BOARD OF GOVERNORS

Sunshine Act Meeting

DATE AND TIMES: Tuesday, January 6, 2004; 10:30 a.m. and 2:30 p.m.

PLACE: Washington, DC, at U.S. Postal Service Headquarters, 475 L'Enfant Plaza, SW., in the Benjamin Franklin Room.

STATUS: January 6—10:30 a.m. (Closed); 2:30 p.m. (Open).

MATTERS TO BE CONSIDERED:

Tuesday, January 6—10:30 a.m. (Closed)

1. Financial Update.

2. Capital Investment—Informational Briefing on OCR Enhancements for Letter Mail Automation.

3. Strategic Planning.

4. Personnel Matters and Compensation Issues.

Tuesday, January 6—2:30 p.m. (Open).

1. Minutes of the Previous Meeting, December 8-9, 2003.

2. Remarks of the Postmaster General and CEO.

3. Committee Report.

4. Consideration of Board resolution on Capital Funding.

5. Annual Report on Government in the Sunshine Act Compliance.

6. Fiscal Year 2003 Comprehensive Report on Postal Operations, including the Preliminary Fiscal Year 2005 Annual Performance Plan—GPRA.

7. Election of Chairman and Vice Chairman of the Board of Governors.

8. Tentative Agenda for the February 2-3, 2004, meeting in Ft. Lauderdale, Florida.

CONTACT PERSON FOR MORE INFORMATION: William T. Johnstone, Secretary of the Board, U.S. Postal Service, 475 L'Enfant Plaza, SW., Washington, DC 20260-1000. Telephone (202) 268-4800.

William T. Johnstone,
Secretary.

[FR Doc. 03-31929 Filed 10-22-03; 3:40 pm]

BILLING CODE 7710-12-M